DEPARTMENT OF AGRICULTURE

Animal and Plant Health Inspection Service

[Docket No. APHIS-2014-0001]

Quarantine Services and Facilities; Public Meeting

AGENCY: Animal and Plant Health Inspection Service, USDA.

ACTION: Notice of public meetings.

SUMMARY: We are advising the public that the Animal and Plant Health Inspection Service will host a series of public meetings to provide a forum for discussion on the current and future capacity for live animal import quarantines.

DATES: The meetings will be held February 19, 25, and 27 and March 3, 5, and 11, 2014, from 8 a.m. to 5 p.m. each day. The meetings will be open to the public and registration will begin at 7:30 a.m. the day of each meeting. We will also consider any written statements we receive on or before May 12, 2014.

ADDRESSES: The public meetings will be held in El Segundo, CA, Clarksville, IN, Chicago, IL, Riverdale, MD, East Elmhurst, NY, and Miami, FL (see the Supplementary Information section of this notice for the address of each meeting site). You may submit written statements by either of the following methods:

• Federal eRulemaking Portal: Go to http://www.regulations.gov/#!documentDetail;D=APHIS-2014-0001-0001.

• Postal Mail/Commercial Delivery: Send your statement to Docket No. APHIS-2014-0001, Regulatory Analysis and Development, PPD, APHIS, Station 3A-03.8, 4700 River Road Unit 118, Riverdale, MD 20737-1238.

Any written statements we receive on this docket may be viewed at http://www.regulations.gov/#!docketDetail;D=APHIS-2014-0001 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. Erich Kestler, Chief of Staff, National Import Export Services, VS, APHIS, 4700 River Road Unit 38, Riverdale, MD 20737-1231; (301) 851-3454.

SUPPLEMENTARY INFORMATION: The regulations in 9 CFR part 93 govern the importation into the United States of specified animals and animal products in order to help prevent the introduction of various animal diseases into the United States. The regulations in part 93 require, among other things, that certain animals, as a condition of entry, be quarantined upon arrival in the United States. The Animal and Plant Health Inspection Service (APHIS) of the U.S. Department of Agriculture currently operates three animal quarantine facilities. We also authorize the use of quarantine facilities that are privately owned and operated for certain animal importations. APHIS oversight and monitoring is still required at privately owned quarantines.

In order to provide a forum for the discussion of the current and future capacity for live animal import quarantines, we are advising the public that we are hosting six public meetings. The public meetings will be held as follows:

• February 19, 2014, at the Embassy Suites, Los Angeles-International Airport/South, 1440 E. Imperial Avenue, El Segundo, CA 90245.

• February 25, 2014, at the Clarion Hotel Conference Center, Louisville North, 505 Marriott Drive, Clarksville, IN 47129.

• February 27, 2014, at the Embassy Suites Chicago Downtown Lakefront, 511 N. Columbus Drive, Chicago, IL 60611.

• March 3, 2014, at the APHIS Headquarters, USDA Center at Riverside, 4700 River Road, Riverdale, MD 20737.

• March 5, 2014, at the Courtyard by Marriott LaGuardia Airport, 90-10 Grand Central Parkway, East Elmhurst, NY, 11369.

• March 11, 2014, at the Courtyard Marriott, Miami Airport South, 1201 NW., LeJeune Road, Miami, FL 33126.

The public meetings will begin at 8 a.m. local time and are scheduled to end at 5 p.m. The meetings will be open to the public and registration will begin at 7:30 a.m. the day of each meeting. These public meetings will provide an opportunity for members of the public (including other Federal and State regulatory agencies) to provide input for developing and implementing possible alternatives to existing APHIS requirements and oversight for live animal quarantines as required under our regulations.

Tentative topics to be discussed at the upcoming meetings include:

1. General considerations in choosing import quarantine services.

2. Considerations in choosing a particular location for animal quarantine.

3. Expectations regarding e-commerce and animal import quarantine.

4. Experience with quarantine facilities in other countries.

5. The impact of marketplace changes on animal import quarantine.

6. Other options, ideas, or topics APHIS should consider before making any changes to current animal import quarantine processes.

Travel directions to the USDA Center at Riverside are available on the Internet at http://www.aphis.usda.gov/plant_health/general_info/directions_riverdale.shtml. This is a Federal building, therefore a valid photo ID is required to gain access and all bags will be screened. Parking is available next to the building for a $5 fee.

Done in Washington, DC, this 31st day of January 2014.
Kevin Shea,
Administrator, Animal and Plant Health Inspection Service.

[FR Doc. 2014-02452 Filed 2-4-14; 8:45 am]

BILLING CODE 3410-34-P